NATIONAL AERONAUTICS AND SPACE ADMINISTRATION

[Notice: 23-101]

NASA Federal Advisory Committees; Charter Renewal

AGENCY: National Aeronautics and Space Administration (NASA).

ACTION: Notice of charter renewal for NASA Federal advisory committee.

SUMMARY: Pursuant to the Federal Advisory Committee Act (FACA), and after consultation with the Committee Management Secretariat, General Services Administration, the NASA Administrator has determined that renewal of the charter of International Space Station Advisory Committee is in the public interest in connection with the performance of duties imposed on NASA by law. The renewed charter is for a two-year period ending September 27, 2025.

FOR FURTHER INFORMATION CONTACT: Ms. Patricia Diane Rausch, NASA Advisory Committee Management Officer, NASA Headquarters, Washington, DC 20546; 202-358-4510 or diane.rausch@nasa.gov.

Patricia Rausch,
Advisory Committee Management Officer, National Aeronautics and Space Administration.

[FR Doc. 2023-21876 Filed 10-2-23; 8:45 am]

BILLING CODE 7510-13-P